DEPARTMENT OF COMMERCE

National Institute of Standards and Technology

Proposed Information Collection; Comment Request; Summer High School Intern Program (SHIP)

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 2, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Jeremy Lawson, Civil Rights and Diversity Office, NIST, 100 Bureau Dr., Mail Stop 1080, Gaithersburg, MD 20899-1080; 301-975-5481; jeremy.lawson@nist.gov.

SUPPLEMENTARY INFORMATION:

I. Abstract

The Summer High School Intern Program (SHIP) is a NIST-wide 8-week summer intern program for students who will have finished their junior or senior year of high school by the start of the program, are U.S. citizens, and are interested in scientific research. Students selected for this competitive volunteer program will participate in cutting-edge research at NIST, and will work closely with NIST staff scientists and engineers on a specific research problem.

The first round of the application process is completed via an on-line application through the Student Information System which collects basic biographical information about the student. This information is reviewed and finalists are invited to submit secondary materials via email to ship@nist.gov. These secondary materials include a resume, transcript, letters of recommendation, personal statement, and parental consent and commitment form.

II. Method of Collection

The initial application is via NIST's on-line Student Information System. The finalist application is via email to ship@nist.gov.

III. Data

OMB Control Number: 0693-XXXX.

Form Number(s): None.

Type of Review: Regular submission (new collection).

Affected Public: Individuals or households; Local government (public schools).

Estimated Number of Respondents: 350.

Estimated Time per Response: 8 hours.

Estimated Total Annual Burden Hours: 2,800.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 30, 2014
Gwellnar Banks,
Management Analyst, Office of the Chief Information Officer.

[FR Doc. 2014-23610 Filed 10-2-14; 8:45 am]

BILLING CODE 3510-13-P